DEPARTMENT OF THE INTERIOR

Bureau of Reclamation

Southern Delivery System, Colorado

AGENCY: Bureau of Reclamation, Interior.

ACTION: Notice of Availability of Southern Delivery System Final Environmental Impact Statement, Colorado.

SUMMARY: Pursuant to the National Environmental Policy Act of 1969 (NEPA), the Bureau of Reclamation (Reclamation), is notifying the public that Reclamation, in cooperation with the U.S. Army Corps of Engineers, U.S. Environmental Protection Agency, U.S. Bureau of Land Management, and U.S. Fish and Wildlife Service, has prepared and made available to the public a final environmental impact statement (Final EIS) for the proposed Southern Delivery System (SDS) project. The non-federal Project Participants (City of Colorado Springs, City of Fountain, Security Water District, and Pueblo West Metropolitan District) have made a request to Reclamation to issue long term excess capacity, conveyance, and exchange contracts for the use of Fryingpan-Arkansas Project facilities. Reclamation needs to decide if the requested contracts will be issued. The Project Participants' purpose is to provide a safe, reliable, and sustainable water supply for their customers through the foreseeable future. The Project Participants' needs are the following:

• The Project Participants have a need to use developed and undeveloped water supplies to meet most or all projected future demands through 2046.

• The Project Participants have a need to develop additional water storage, delivery, and treatment capacity to provide system redundancy.

• The Project Participants have a need to perfect and deliver their existing Arkansas Basin water rights.

Reclamation published a Draft EIS on February 29, 2008. Reclamation published a Supplemental Information Report on October 3, 2008 to update and provide additional information that was not in the Draft EIS. Revisions were made to the Final EIS to incorporate additional analyses presented in the Supplemental Information Report, and responses to comments on the Draft EIS and Supplemental Information Report. The Final EIS includes written responses to all public comments on both the Draft EIS and Supplemental Information Report. It also identifies the Participants' Proposed Action as Reclamation's preferred alternative.

DATES: Reclamation will not make a decision on the proposed action until at least 30 days after the release of the Final EIS. After the 30-day waiting period, Reclamation will complete a Record of Decision (ROD). The ROD will indicate the action selected for implementation and will discuss factors and rationale used in making the decision.

ADDRESSES: Ms. Kara Lamb, Bureau of Reclamation, Eastern Colorado Area Office, 11056 W. County Road 18E, Loveland, CO 80537-9711; telephone (970) 663-3212; facsimile (970) 962-4326; e-mail: klamb@gp.usbr.gov. The Draft EIS, Supplemental Information Report, and Final EIS, are also available on the project Web site at: http://www.sdseis.com.

SUPPLEMENTARY INFORMATION: The Final EIS considers six action alternatives and a no action alternative:

• The No Action Alternative represents the most likely future water development project in the absence of a major Reclamation action.

• The Participants' Proposed Action represents the Southern Delivery System project as the Participants propose to construct and operate it.

• The Wetland Alternative was developed to minimize the wetland acres disturbed.

• The Arkansas River Alternative was developed to provide both the highest minimum flow in the Arkansas River through Pueblo and minimize water quality effects on the lower Arkansas River.

• The Fountain Creek Alternative was developed to minimize geomorphic and water quality effects on Fountain Creek by minimizing the use of Fountain Creek for receiving and conveying reusable return flows on the Arkansas River.

• The Downstream Intake Alternative would use an untreated water intake from the Arkansas River downstream of Fountain Creek.

• The Highway 115 Alternative would convey untreated water through a pipeline that generally follows Colorado 115 between the Arkansas River and Colorado Springs.

Copies of the Final EIS are available at the following locations:

• Bureau of Reclamation, Eastern Colorado Area Office, 11056 W. County Road 18E, Loveland, CO 80537.

• Buena Vista/ North Chaffee County Library, 131 Linderman Avenue, Buena Vista, CO 81211.

• Cañon City Public Library, 516 Macon Avenue, Cañon City, CO 81212.

• Pikes Peak Library District—Penrose Library, 20 N Cascade Avenue, Colorado Springs, CO 80903.

• Pueblo City-County Library District, 100 E Abriendo Avenue, Pueblo, CO 81004.

• Woodruff Memorial Library, 522 Colorado Avenue, La Junta, CO 81050.

Dated: December 9, 2008.
Bobbi C. Sherwood-Widmann,
Acting Assistant Regional Director, Great Plains Region.

[FR Doc. E8-29565 Filed 12-18-08; 8:45 am]

BILLING CODE 4310-MN-P